NATIONAL AERONAUTICS AND SPACE ADMINISTRATION

[Notice (10-099)]

Notice of Information Collection

AGENCY: National Aeronautics and Space Administration (NASA).

ACTION: Notice.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(C)(2)(A)).

DATES: All comments should be submitted within September 30, 2010.

ADDRESSES: All comments should be addressed Lori Parker, Office of the Chief Information Officer, Mail Suite 2S65, National Aeronautics and Space Administration, Washington, DC 20546-0001.

FOR FURTHER INFORMATION CONTACT: Requests for additional information or copies of the information collection instrument(s) and instructions should be directed to Lori Parker, Office of the Chief Information Officer, NASA Headquarters, 300 E Street, SW., Mail Suite 2S65, Washington, DC 20546, (202) 358-1351, lori.parker@nasa.gov.

SUPPLEMENTARY INFORMATION:

I. Abstract

The NASA Office of Public Affairs wants an electronic method to provide scheduling and notification of NASA events that allow them to track and manage these request for events.

II. Method of Collection

Electronic.

III. Data

Title: Special Events Guest System (SEGS).

OMB Number: 2700-XXXX.

Type of Review: Revision of a currently approved collection.

Affected Public: Individuals or households.

Estimated Number of Respondents: 11000.

Estimated Time per Response: Voluntary.

Estimated Total Annual Burden Hours: 1100.

Estimated Total Annual Cost: $0.

IV. Requests for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Lori Parker,
NASA PRA Clearance Officer.

[FR Doc. 2010-21687 Filed 8-30-10; 8:45 am]

BILLING CODE 7510-13-P